ENVIRONMENTAL PROTECTION AGENCY

[FRL-10014-92-OA]

Notification of a Public Meeting of the Chartered Science Advisory Board

AGENCY: Environmental Protection Agency (EPA).

ACTION: Notice.

SUMMARY: The Environmental Protection Agency (EPA) Science Advisory Board (SAB) Staff Office announces a public meeting of the Chartered SAB. The Chartered SAB will meet to conduct quality reviews of two draft SAB reports: (1) SAB Peer Review of EPA's Revised Guidelines for Preparing Economic Analyses, and (2) Review of EPA's Reduced Form Tools Evaluation.

DATES: The public meeting of the Chartered Science Advisory Board will be held on Thursday, November 12, 2020, from 1 p.m. to 5 p.m. (Eastern Time).

ADDRESSES: The public meeting will be conducted remotely via webcast and telephone. Please refer to the SAB website at http://www.epa.gov/sab for information on how to access the meeting.

FOR FURTHER INFORMATION CONTACT: Any member of the public who wants further information concerning the public meeting may contact Dr. Thomas Armitage, Designated Federal Officer (DFO), U.S. EPA Science Advisory Board, via telephone/voice mail (202) 564-2155, or email at armitage.thomas@epa.gov. General information concerning the SAB can be found on the EPA website at http://www.epa.gov/sab.

SUPPLEMENTARY INFORMATION: Background: The SAB was established pursuant to the Environmental Research, Development, and Demonstration Authorization Act (ERDDAA), codified at 42 U.S.C. 4365, to provide independent scientific and technical advice to the Administrator on the scientific and technical basis for agency positions and regulations. The SAB is a Federal Advisory Committee chartered under the Federal Advisory Committee Act (FACA), 5 U.S.C., App. 2. The SAB will comply with the provisions of FACA and all appropriate SAB Staff Office procedural policies. Pursuant to FACA and EPA policy, notice is hereby given that the Chartered SAB will hold a public meeting to discuss and deliberate on the topics below.

The Chartered SAB will conduct a quality review of the SAB Economic Guidelines Review Panel report titled SAB Peer Review of EPA's Revised Guidelines for Preparing Economic Analyses. Background information about this activity is available on the SAB website at: https://yosemite.epa.gov/sab/sabproduct.nsf/0/30D5E59E8DC91C2285258403006EEE00?OpenDocument. The SAB will also conduct a quality review of the SAB Reduced- Form Tools Review Panel report titled Review of EPA's Reduced Form Tools Evaluation. Background information about this activity is available on the SAB website at: https://yosemite.epa.gov/sab/sabproduct.nsf//0/46C3F741097CD634852585500048F4BA?OpenDocument. The SAB quality review process ensures that all draft reports developed by SAB panels, committees or workgroups are reviewed and approved by the Chartered SAB before being finalized and transmitted to the EPA Administrator. These reviews are conducted in a public meeting as required by FACA.

Technical Contacts: Any technical questions concerning EPA's document titled Guidelines for Preparing Economic Analyses should be directed to Dr. Al McGartland mcgartland.al@epa.gov and Dr. simon.nathalie@epa.gov Simon. Any technical questions concerning EPA's document titled Evaluating Reduced-Form Tools for Estimating Air Quality Benefits should be directed to Dr. Erika Sasser (sasser.erika@epa.gov).

Availability of Meeting Materials: Prior to the meeting, an agenda and other meeting materials will be placed on the SAB website at http://epa.gov/sab.

Procedures for Providing Public Input: Public comment for consideration by EPA's federal advisory committees and panels has a different purpose from public comment provided to EPA program offices. Therefore, the process for submitting comments to a federal advisory committee is different from the process used to submit comments to an EPA program office.

Federal advisory committees and panels, including scientific advisory committees, provide independent advice to the EPA. Members of the public can submit relevant comments pertaining to the committee's charge or meeting materials. Input from the public to the SAB will have the most impact if it provides specific scientific or technical information or analysis for the SAB to consider or if it relates to the clarity or accuracy of the technical information. Members of the public wishing to provide comment should contact the DFO directly.

Oral Statements: In general, individuals or groups requesting an oral presentation at a public teleconference will be limited to three minutes. Persons interested in providing oral statements should contact Dr. Thomas Armitage, DFO, in writing via email) at the contact information noted above by November 5, 2020, to be placed on the list of registered speakers.

Written Statements: Written statements will be accepted throughout the advisory process; however, for timely consideration by SAB members, statements should be received in the SAB Staff Office by November 5, 2020, with original signature. Submitters are requested to provide a signed and unsigned version of each document because the SAB Staff Office does not publish documents with signatures on its websites. Members of the public should be aware that their personal contact information, if included in any written comments, may be posted to the SAB website. Copyrighted material will not be posted without explicit permission of the copyright holder.

Accessibility: For information on access or services for individuals with disabilities, please contact Dr. Armitage at the phone number or email address noted above, preferably at least ten days prior to the meeting, to give the EPA as much time as possible to process your request.

V. Khanna Johnston,
Deputy Director, EPA Science Advisory Board Staff Office.

[FR Doc. 2020-20883 Filed 9-21-20; 8:45 am]

BILLING CODE 6560-50-P